DEPARTMENT OF LABOR

Employment and Training Administration

Employment and Training Administration Program Year (PY) 2011 Workforce Investment Act (WIA) Section 167, National Farmworker Jobs Program (NFJP) Allocations

AGENCY: Employment and Training Administration, Labor.

ACTION: Notice.

SUMMARY: This Notice announces allocations for PY 2011 for the WIA Title I Section 167 National Farmworker Jobs Program (NFJP) program. The NFJP allocations are distributed to the State service areas by a formula that estimates, by State, the relative demand for NFJP services. The formula factors used to allocate funds for the NFJP were published in the Federal Register on May 19, 1999. The notice explained the purpose of the formula; i.e., distributing funds geographically by State service area on the basis of each area's relative share of farmworkers who are eligible for enrollment in the NFJP. The data used in the formula are comprised of a combination of data sets that were selected to yield the relative share distribution across States of eligible farmworkers. While the data factors used in the formula remain unchanged since their development in 1999, the data sets were last updated in 2005 with data from the 2000 Census, the 2003 National Agricultural Workers Survey (NAWS), and the 2002 Census of Agriculture.

DATES: The PY 2011 NFJP allocations become effective for the program year beginning on July 1, 2011.

ADDRESSES: Questions on the allocations can be submitted to the Employment and Training Administration, Office of Financial and Administrative Management, 200 Constitution Ave., NW., Room N-4702, Washington, DC 20210, Attention: Ms. Anita Harvey, (202) 693-3958 (phone), (202) 693-2859 (fax), or e-mail: Harvey.anita@dol.gov.

FOR FURTHER INFORMATION CONTACT: Alina M. Walker, Program Manager (202) 693-2706 or Juan Regalado, National Monitor Advocate, at (202) 693-2661.

SUPPLEMENTARY INFORMATION: The Department of Labor (DOL or Department) is announcing final PY 2011 allocations for the NFJP. This notice provides information on the amount of funds available during PY 2011 to State service areas awarded grants through the PY 2011 Solicitation for Grant Applications (SGA) for the National Farmworker Jobs Program and the National Farmworker Jobs Program Housing Assistance SGA.

The allocations are based on the funds appropriated in the Full-Year Continuing Appropriations Act, 2011, Public Law 112-10, April 15, 2011. In appropriating these funds, Congress provided $78,253,180 for State service area grants; $5,688,600 for migrant and seasonal farmworker housing assistance grants; and $508,980 for Section 167 training and technical assistance and related activities. These amounts reflect the 0.2 percent rescission mandated by Congress which impacted all WIA programs.

Included below is the table listing the PY 2011 allocations for the NFJP State service areas, as well as the sub-allocation table for California. California is the only State service area with more than one grant; the current sub-allocation formula for California was developed in collaboration with the existing grantees. Individual grants are awarded for housing assistance as a result of the grants competition and are further distributed according to language in the appropriations law requiring that of the total amount available ($5,688,600) 70 percent be allocated to permanent housing activities ($3,981,474), and 30 percent ($1,705,346) to temporary/emergency housing activities.

Formula Allocation for the NFJP The calculation of the PY 2011 formula allocation distribution incorporates the state-by-state relative shares of eligible farmworkers developed for the PY 2005 formula allocations using the updated datasets described above, with various adjustments applied since then. The PY 2005 calculation adjusted those state-by-state relative shares by “hold-harmless” and “stop-loss”/”stop-gain” limits due to the introduction of the updated data. The following year, the PY 2006 formula allocations were proportionately based on the PY 2005 formula allocations and further adjusted by an additional $3.8 million appropriated by Congress for States whose PY 2005 allocation had been reduced as a result of the updated data used for the PY 2005 formula allocation distribution. Detailed descriptions of the formula methodology for PY 2005 and PY 2006 formula allocations were provided in the applicable Federal Register announcements.

The PY 2007 appropriation for the WIA Section 167 formula program was $470 less than the corresponding PY 2006 appropriation. To maintain stability of funding for the program and consistency with the PY 2006 congressional directions to the Department, the Department distributed the PY 2007 formula funding among all States in the same proportion as the distribution of the PY 2006 formula allocations. In all subsequent appropriations, including PY 2011, the Department continued to distribute the formula funding amount in the same proportion as the distribution of the prior year's formula amounts.

State Combinations We anticipate a single plan of service for operating the PY 2011 NFJP in the State service areas of Delaware and Maryland and the State service areas of Rhode Island and Connecticut. The sub-allocations for multiple sub-state service areas in California are discussed earlier in this Notice.

Signed at Washington, DC, this 23rd day May, 2011.
Jane Oates,
Assistant Secretary, Employment and Training Administration.

U.S. Department of Labor Employment and Training Administration National Farmworker Jobs Program PY 2011 Allocations to States
State | Total
Total | $78,253,180
Alabama | 791,926
Alaska |
Arizona | 2,132,576
Arkansas | 1,144,854
California | 19,984,817
Colorado | 999,986
Connecticut | 352,413
Delaware | 126,916
Dist of Columbia |
Florida | 4,146,020
Georgia | 1,532,229
Hawaii | 330,485
Idaho | 1,074,827
Illinois | 1,437,203
Indiana | 923,526
Iowa | 1,176,640
Kansas | 1,074,936
Kentucky | 1,210,852
Louisiana | 910,782
Maine | 293,084
Maryland | 362,515
Massachusetts | 322,032
Michigan | 1,399,272
Minnesota | 1,234,045
Mississippi | 1,297,176
Missouri | 985,854
Montana | 597,263
Nebraska | 1,088,204
Nevada | 179,751
New Hampshire | 101,931
New Jersey | 696,249
New Mexico | 946,732
New York | 1,656,708
North Carolina | 2,690,959
North Dakota | 607,492
Ohio | 1,259,904
Oklahoma | 1,272,692
Oregon | 1,971,923
Pennsylvania | 1,544,889
Puerto Rico | 3,058,359
Rhode Island | 38,696
South Carolina | 966,905
South Dakota | 620,254
Tennessee | 857,418
Texas | 6,673,042
Utah | 289,213
Vermont | 190,798
Virginia | 927,817
Washington | 3,090,088
West Virginia | 196,339
Wisconsin | 1,250,652
Wyoming | 233,936

[FR Doc. 2011-13137 Filed 5-26-11; 8:45 am]

BILLING CODE P